TRADE AND DEVELOPMENT AGENCY

Notice of Request for Extension of a Currently Approved Information Collection

AGENCY: United States Trade and Development Agency.

ACTION: Request for comments.

SUMMARY: In accordance with the Paperwork Reduction Act of 1995, the U.S. Trade and Development Agency (USTDA) has submitted a request to the Office of Management and Budget (OMB) to review and approve an extension for a currently approved information collection for Evaluation of USTDA Performance. USTDA published its first Federal Register Notice on this information request extension on August 14, 2020, at which time a 60-day comment period was announced. No comments were received in response to this notice at the end of the comment period.

DATES: Send comments on or before November 12, 2020 to be assured of consideration.

ADDRESSES: Copies of the subject form and the request for extension prepared for submission to OMB may be obtained from the Agency Submitting Officer. Comments should be addressed as follows: Desk Officer for USTDA, Office of Information and Regulatory Affairs, Office of Management and Budget (OMB), Washington DC 20503.

FOR FURTHER INFORMATION CONTACT: Lisa Lawn, Administrative Officer, Attn: PRA, U.S. Trade and Development Agency, 1101 Wilson Blvd., Suite 1100, Arlington, VA 22209-3901; Tel: (703) 875-4357, Fax: (703) 775-4037; Email: llawn@ustda.gov.

SUPPLEMENTARY INFORMATION: Comments are again being solicited on: (1) Whether the proposed collection of information is necessary for the proper performance of the functions of the agency, including whether the information will have practical utility; (2) the accuracy of the agency's estimate of the burden of the proposed collection of information including the validity of them methodology and assumptions used; (3) ways to enhance the quality, utility, and clarity of the information to be collected; and (4) ways to minimize the burden to the collection of information on those who are to respond including the use of appropriate automated, electronic, mechanical or other technological collection techniques or other forms of information technology.

Summary Collection Under Review

Type of Request: Extension of a currently approved information collection.

Expiration Date of Previous Approval: 12/31/2020

Title: Evaluation of USTDA Performance.

Form Number: USTDA 1000E-2014a.

Frequency of Use: annually for duration of project.

Type of Respondents: Business or other for profit; Not for profit institutions; Farms; Federal Government.

Estimated Number of Responses: 1,440 to 1,800 per year.

Estimated Total Annual Burden on Respondents: 480 to 600 hours per year.

Federal Cost: $335,709.

Authority for Information Collection: Government Performance and Results Act of 1993, Pub. L. 103-62, 107 Stat. 285.

Abstract: USTDA and contractors will collect information from various stakeholders on USTDA-funded activities regarding development impact and/or commercial objectives as well as evaluate success regarding GPRA objectives. This information collection enables USTDA to assess the impacts that its program investments have on U.S. commercial interests and economic development abroad. The goal of this information collection is to gather evidence and stakeholder feedback in order to continually improve program performance and deliver better results to U.S. taxpayers. As a matter of good management practice, such information is necessary to responsibly carry out the Agency's mission of monitoring current and recently completed activities.

Dated: October 7, 2020.
Lisa J. Lawn,
Administrative Officer.

[FR Doc. 2020-22583 Filed 10-9-20; 8:45 am]

BILLING CODE 8040-01-P